DEPARTMENT OF EDUCATION

Office of Special Education and Rehabilitative Services List of Correspondence

AGENCY: Department of Education.

ACTION: List of correspondence from April 1, 2001 through June 30, 2001.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: Melisande Lee or JoLeta Reynolds. Telephone: (202) 205-5507. If you use a telecommunications device for the deaf (TDD) you may call (202) 205-5465 or the Federal Information Relay Service (FIRS) at 1-800-877-8339.

Individuals with disabilities may obtain a copy of this notice in an alternative format (e.g., Braille, large print, audiotape, or computer diskette) on request to Katie Mincey, Director of the Alternate Formats Center. Telephone: (202) 205-8113.

SUPPLEMENTARY INFORMATION: The following list identifies correspondence from the Department issued between April 1, 2001 through June 30, 2001.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part B—Assistance for Education of All Children With Disabilities

Section 611—Authorization; Allotment; Use of Funds; Authorization of Appropriations

Topic Addressed: Distribution of Funds

• Letter dated June 14, 2001 to U.S. Senator Richard J. Lugar, describing actual and proposed increases in Federal funding levels for special education programs and initiatives to reduce the cost of special education.

• OSEP memorandum 01-14 dated June 6, 2001, regarding implementation of the 20 percent rule in 34 CFR 300.233 and clarifying which funds under Part B of IDEA can be included under the 20 percent calculation.

• OSEP memorandum 01-13 dated June 4, 2001, regarding implementation of the new funding formula under IDEA and the year of age cohorts for which a free appropriate public education (FAPE) is ensured.

Topic Addressed: Use of Funds

• Letter dated May 24, 2001 to U.S. Congressman Mac Thornberry, clarifying that although IDEA funds may not be used to pay litigation expenses, these funds may be used to increase cooperative problem solving and to promote the use of alternative dispute resolution.

• Letter dated April 16, 2001 to U.S. Congresswoman Rosa L. DeLauro, regarding the use of non-Federal funding to supplement Federal Part B funds for children with disabilities placed by their parents in private or parochial schools.

Section 612—State Eligibility

Topic Addressed: Free Appropriate Public Education

• Letter dated May 18, 2001 (personally identifiable information redacted), regarding the inability of complaint mechanisms under the IDEA to assist individuals who are well over the age limit in Part B to receive special education services.

Topic Addressed: Children in Private Schools

• Letter dated May 18, 2001 (personally identifiable information redacted), regarding placement of children with disabilities in private schools under Part B and possible funding sources for private school placement.

Topic Addressed: State Educational Agency General Supervisory Authority

• Letter dated May 24, 2001 (personally identifiable information redacted), regarding a State's obligation to ensure that referral and placement of students with disabilities by a local educational agency complies with Federal and State requirements under the IDEA.

• Letter dated April 16, 2001 to U.S. Congressman Wayne T. Gilchrest, and letter dated April 30, 2001 (personally identifiable information redacted), regarding the finality of due process hearings and whether the State statute concerning limitations to reimbursement for private school tuition and exceptions for those limitations complies with the requirements of the IDEA.

Section 614—Evaluations, Eligibility Determinations, Individualized Education Programs, and Educational Placements Topic Addressed: Evaluations And Reevaluations

• Letter dated April 16, 2001 (personally identifiable information redacted), clarifying the obligations of school districts and the rights of parents regarding reevaluations of children who have or are suspected of having disabilities.

Topic Addressed: Individualized Education Programs

• Letter dated April 16, 2001 to U.S. Congresswoman Jo Ann Emerson, regarding the obligation of public agencies to provide eyeglasses to a student and the procedural safeguards available to parents who disagree with the content of their child's individualized education program.

Section 615—Procedural Safeguards

Topic Addressed: Due Process Hearings

• Letter dated April 19, 2001 to Virginia Department of Education Director Judith A. Douglas, regarding whether a State educational agency is required to convene a due process hearing initiated by someone other than the parent of a child with a disability or a public agency.

Topic Addressed: Surrogate Parents

• Letter dated April 16, 2001 to Pinal County, Arizona Deputy County Attorney Linda L. Harant, regarding the appointment of surrogate parents for children who are wards of a tribal court.

Topic Addressed: Student Discipline

• Letter dated April 16, 2001 to Professor Perry A. Zirkel, regarding the calculation of disciplinary removals of up to 10 school days to determine whether a change in placement has occurred and the provision of FAPE during periods of suspension or expulsion from school.

Section 619—Preschool Grants

Topic Addressed: Use of Funds

• Letter dated June 29, 2001 to Connecticut Bureau of Early Childhood Education and Social Services Chief Paul Flinter, regarding allowable uses of Preschool Grant State set-aside funds.

Part C—Infants and Toddlers with Disabilities

Section 635—Requirements for a Statewide System

Topic Addressed: Eligibility Criteria

• Letter dated May 17, 2001 to South Dakota Office of Special Education Director Deborah Barnett and South Dakota Interagency Coordinating Council Member Joanne Wounded Head, regarding the use of informed clinical opinion in determining eligibility, the provision of respite care and transportation as part of early intervention services, and the need for appropriately trained staff.

• Letter dated May 3, 2001 to Arkansas Department of Human Services Director Kurt Knickrehm, clarifying the need to review public awareness and child find activities to ensure that culturally appropriate materials are provided to all populations in the State and that States can establish initial eligibility criteria but cannot set additional criteria for individual services for a child who has already been determined to be eligible under Part C.

• Letter dated May 2, 2001 to Dr. Garry Gardner, regarding the flexibility that Part C provides States in defining the “developmental delay” category for determining the eligibility of infants and toddlers with disabilities and the procedures that States must follow in making changes to this category.

Section 636—Individualized Family Service Plan

Topic Addressed: Early Intervention Services

• Letter dated April 16, 2001 to U.S. Senator Robert C. Byrd, regarding the individualized family service plan (IFSP) process in determining the intensity and frequency of early intervention services under Part C, along with the financial responsibility for these services.

Topic Addressed: Natural Environments

• Letter dated June 14, 2001 to U.S. Congressman Ike Skelton, regarding the history and changes to the natural environments requirements of Part C of IDEA since the early intervention program was originally enacted, and clarifying that the need for parent networking and parent training could be addressed through the provision of appropriate services in the child's individualized family services plan (IFSP).

Other Letters Relevant to the Administration of IDEA Programs

Topic Addressed: Assistance Under Other Federal Programs

• OSEP memorandum 01-09 dated May 24, 2001, regarding information about new regulations affecting the determination of childhood disability under the Social Security Administration's Supplemental Security Income program.

• Letter dated April 16, 2001 to Joseph Kinney, regarding use of Federal Medicaid funds to pay for required services under Part B of the IDEA for children with disabilities.

Electronic Access to This Document

You may view this document, as well as all other Department of Education documents published in the Federal Register, in text or Adobe Portable Document Format (PDF) on the Internet at the following site: http://www.ed.gov/legislation/FedRegister/

To use PDF you must have Adobe Acrobat Reader, which is available free at this site. If you have questions about using PDF, call the U.S. Government Printing Office (GPO), toll free, at 1-800-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number 84.027, Assistance to States for Education of Children with Disabilities)

Dated: September 13, 2001.
Robert H. Pasternack,
Assistant Secretary for Special Education and Rehabilitative Services.

[FR Doc. 01-23242 Filed 9-17-01; 8:45 am]

BILLING CODE 4000-01-U